DEPARTMENT OF COMMERCE

U.S. Census Bureau

Proposed Information Collection; Comment Request; Geographic Partnership Programs

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 8, 2015.

ADDRESSES: Direct all written comments to Jennifer Jessup, Departmental Paperwork Clearance Officer, Department of Commerce, Room 6625, 14th and Constitution Avenue NW, Washington, DC 20230 (or via the Internet at jjessup@doc.gov).

FOR FURTHER INFORMATION CONTACT: Direct requests for additional information or copies of the information collection instrument(s) and instructions to Laura Waggoner, U.S. Census Bureau, Washington, DC 20233 (or via the Internet at laura.l.waggoner@census.gov).

SUPPLEMENTARY INFORMATION:

I. Abstract

The mission of the Geography Division (GEO) within the Census Bureau is to plan, coordinate, and administer all geographic and cartographic activities needed to facilitate Census Bureau statistical programs throughout the United States and its territories. GEO manages programs to continuously update geographic data including addresses, spatial features, boundaries, and geographic entities in the Master Address File/Topologically Integrated Geographic Encoding and Referencing System (MAF/TIGER) System. GEO also conducts research into geographic concepts, methods, and standards needed to facilitate Census Bureau data collection and dissemination programs.

Geographic Partnership Programs (GPPs) encourages participants, following Census Bureau guidelines, to review, update, and suggest modifications to geographic data to maintain MAF/TIGER and to ensure the accurate reporting of data from censuses and surveys. Because state, local, and tribal governments have geographic data and current knowledge about where growth and change are occurring in their jurisdictions, their input into the overall development of a continually maintained address list for censuses and surveys makes a vital contribution. The Census Bureau recognizes that state, local, and tribal governments have authoritative geographic data for their jurisdiction. The benefits to local governments in sharing that information as part of the Census Bureau's GPPs are realized with quality data for more accurate results of censuses and surveys.

II. Method of Collection

This notice is for a generic clearance that will cover a number of activities required for updating MAF/TIGER with participant-provided address and other geographic information, or obtain address and spatial data for research and evaluation purposes. The information collected in these programs in cooperation with state, local, and tribal governments and other partners is essential to the mission of the Census Bureau and directly contributes to the successful outcome of censuses and surveys conducted by the Census Bureau. The generic clearance allows the Census Bureau to focus its resources on actual operational planning, development of procedures, and implementation of programs to update and improve the geographic data maintained in MAF/TIGER.

The Census Bureau will develop guidelines and procedures for state, local, and tribal government submissions of address data and geographic boundaries, and will outline the mutual roles and responsibilities of each party within each GPP. The GPP listed below, is not exhaustive of all activities that may be performed under this generic clearance. The Census Bureau will follow the approved procedure when submitting any additional activities not specifically listed here.

Geographic Support System Initiative (GSS-I)

The GSS-I is an integrated program designed to improve geographic data and enhance the quality assessment and measurement for MAF/TIGER. The GSS-I builds on the accomplishments of the last decade's MAF/TIGER Enhancement Program (MTEP), which redesigned MAF/TGER, improved the positional accuracy of TIGER spatial features, and emphasized quality measurement. The Census Bureau plans on a continual update process for MAF/TIGER throughout the decade to support current surveys, including the American Community Survey (ACS). Major participants are the Census Bureau with state, local, and tribal governments. The Census Bureau will contact state, local, and tribal governments to obtain files containing their geographic data to explore data exchange opportunities, and share best practices on maintaining quality geographic data. Governments can provide a file of their geographic data or provide data through a web-based application sponsored by the Census Bureau. Governments can choose the format and medium to provide their data directly to the Census Bureau, or may elect to standardize their data using Community TIGER.

III. Data

OMB Control Number: 0607-0795.

Form Number: Not available at this time.

Type of Review: Regular submission.

Affected Public: State, local, and tribal governments.

Estimated Number of Respondents (Fiscal Year (FY) 2015):

GEO Contact with Local Governments: 1,000.

GEO Acquisition of Local Geographic Data and Content Clarification: 500.

Community TIGER Contact with Local Governments: 200.

Community TIGER Updates: 200.

Estimated Number of Respondents (FY 2016 & FY 2017):

GEO Contact with Local Governments: 2,000.

GEO Acquisition of Local Geographic Data and Content Clarification: 1,000.

Community TIGER Contact with Local Governments: 500.

Community TIGER Updates: 500.

Estimated Time per Response (all FYs):

GEO Contact with Local Governments: 2 hours.

GEO Acquisition of Local Geographic Data and Content Clarification: 10 hours.

Community TIGER Contact with Local Governments: 2 hours.

Community TIGER Updates: 40 hours.

Estimated Total Annual Burden Hours (FY 2015):

GEO Contact with Local Governments: 2,000.

GEO Acquisition of Local Geographic Data and Content Clarification: 5,000.

Community TIGER Contact with Local Governments: 400.

Community TIGER Updates: 8,000.

Estimated Total Annual Burden Hours (FY 2016 & FY 2017):

GEO Contact with Local Governments: 4,000.

GEO Acquisition of Local Geographic Data and Content Clarification: 10,000.

Community TIGER Contact with Local Governments: 1,000.

Community TIGER Updates: 20,000.

Estimated Total Annual Cost to Public: $0.

Respondent Obligation: Voluntary.

Legal Authority: Title 13 U.S.C. Sections 16, 141, and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 2, 2015.
Glenna Mickelson,
Management Analyst, Office of the Chief Information Officer.

[FR Doc. 2015-07888 Filed 4-6-15; 8:45 am]

BILLING CODE CODE 3510-07-P